POSTAL REGULATORY COMMISSION

[Docket Nos. MC2016-94 and CP2016-119; Order No. 3143]

New Postal Product

AGENCY: Postal Regulatory Commission.

ACTION: Notice.

SUMMARY: The Commission is noticing a recent Postal Service filing concerning the addition of International Merchandise Return Service Agreements with Foreign Postal Operators Non-Published Rates to the competitive product list. This notice informs the public of the filing, invites public comment, and takes other administrative steps.

DATES: Comments are due: March 16, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

In accordance with 39 U.S.C. 3642, 39 CFR 3020.30 et seq., and Order No. 2639,¹ the United States Postal Service (Postal Service) filed a formal request and associated supporting information to add Competitive International Merchandise Return Service Agreements with Foreign Postal Operators 2 (IMRS-FPO 2) to the competitive products list.² If the proposed product is approved by the Commission, the Postal Service intends to file each new IMRS-FPO 2 agreement, along with the financial model inputs used to generate rates for each agreement, with the Commission in this docket “within a reasonable time, e.g., within 10 days of the effective date of the agreement.” ³

¹ Docket Nos. MC2015-68 and CP2015-99, Order Conditionally Approving Addition of Competitive International Merchandise Return Service Agreements with Foreign Postal Operators (IMRS-FPO) to the Competitive Product List, August 4, 2015 (Order No. 2639).

² Request of the United States Postal Service to Add Competitive International Merchandise Return Service Agreements with Foreign Postal Operators 2 (IMRS-FPO 2) Product to the Competitive Products List and Notice of Filing IMRS-FPO 2 Model Agreement and Application for Non-Public Treatment of Materials Filed Under Seal, March 8, 2016 (Request).

³ Request at 2 (quoting Order 2639 at 8).

To support its Request, the Postal Service filed an application for non-public treatment of materials filed under seal; a redacted copy of Governors' Decision No. 11-6, which authorizes Outbound International Competitive Agreements; a statement of supporting justification, as required by 39 CFR 3020.32; proposed changes to the Mail Classification Schedule; a copy of the IMRS-FPO 2 model agreement; a certification of compliance with 39 U.S.C. 3633(a); a redacted copy of a related management analysis; and supporting financial workpapers.

II. Notice of Commission Action

The Commission establishes Docket Nos. MC2016-94 and CP2016-119 to consider the Request pertaining to the addition of IMRS-FPO 2 to the competitive products list.

The Commission invites comments on whether the Postal Service's filings in the captioned dockets are consistent with the policies of 39 U.S.C. 3632, 3633, or 3642, 39 CFR part 3015, and 39 CFR part 3020, subpart B. Comments are due no later than March 16, 2016. The public portions of these filings can be accessed via the Commission's Web site (http://www.prc.gov).

The Commission appoints Max E. Schnidman to serve as an officer of the Commission to represent the interests of the general public in these proceedings (Public Representative).

III. Ordering Paragraphs

It is ordered:

1. The Commission establishes Docket Nos. MC2016-94 and CP2016-119 to consider the matters raised in each docket.

2. Pursuant to 39 U.S.C. 505, Max E. Schnidman is appointed to serve an officer of the Commission to represent the interests of the general public in these proceedings (Public Representative).

3. Comments are due no later than March 16, 2016.

4. The Secretary shall arrange for publication of this order in the Federal Register.

By the Commission.
Stacy L. Ruble,
Secretary.

[FR Doc. 2016-05745 Filed 3-14-16; 8:45 am]

BILLING CODE 7710-FW-P